DEPARTMENT OF ENERGY

Federal Energy Regulatory Commission

[Docket Nos. CP18-512-000; CP18-513-000]

Corpus Christi Liquefaction Stage III, LLC; Corpus Christi Liquefaction, LLC; and Cheniere Corpus Christi Pipeline, L.P.; Notice of Revised Schedule for Environmental Review of the Stage 3 Project

This notice identifies the Federal Energy Regulatory Commission staff's revised schedule for the completion of the environmental assessment (EA) for the Corpus Christi Liquefaction Stage III, LLC, Corpus Christi Liquefaction, LLC, and Cheniere Corpus Christi Pipeline, L.P. (collectively, Cheniere) Stage 3 Project. The first notice of schedule, issued on August 31, 2018, identified February 8, 2019 as the EA issuance date. The previous notice states, however, that the forecasted schedule was based upon Cheniere providing complete and timely responses to any data requests. In its partial data request responses filed in December 2018 and January 2019, Cheniere states that it does not plan to file the outstanding information until February 7 and 22, 2019, respectively. As a result, staff has revised the schedule for issuance of the EA. The revised schedule for the EA is based upon Cheniere meeting its commitment to provide complete responses to outstanding data requests on the dates it has identified.

Schedule for Environmental Review

Issuance of EA: March 29, 2019

90-day Federal Authorization Decision Deadline: June 27, 2019

If a schedule change becomes necessary, additional notice will be provided so that the relevant agencies are kept informed of the Project's progress.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-512 and CP18-513), and follow the instructions. For assistance with access to eLibrary, the helpline can be reached at (866) 208-3676, TTY (202) 502-8659, or at FERCOnlineSupport@ferc.gov. The eLibrary link on the FERC website also provides access to the texts of formal documents issued by the Commission, such as orders, notices, and rulemakings.

Dated: February 7, 2019.
Kimberly D. Bose,
Secretary.

[FR Doc. 2019-02144 Filed 2-12-19; 8:45 am]

BILLING CODE 6717-01-P